DEPARTMENT OF HEALTH AND HUMAN SERVICES

Food and Drug Administration

[Docket No. FDA-2015-N-0001]

Sixth Annual Coalition Against Major Diseases/Food and Drug Administration Scientific Workshop; Public Workshop; Correction

AGENCY: Food and Drug Administration, HHS.

ACTION: Notice; correction.

SUMMARY: The Food and Drug Administration (FDA) is correcting a notice that appeared in the Federal Register of August 3, 2015 (80 FR 45998). That notice, announcing the sixth annual scientific workshop co-sponsored by FDA and the Coalition Against Major Diseases Consortium of the Critical Path Institute, contained incorrect Web links for online registration and for the FDA Meeting Information Page (where the workshop agenda will be made available) and an incorrect registration deadline. This document corrects those errors.

FOR FURTHER INFORMATION CONTACT: Jacqueline Brooks-Leighton, Center for Drug Evaluation and Research, Food and Drug Administration, 10903 New Hampshire Ave., Bldg. 21, Rm. 4521, Silver Spring, MD 20993, 240-402-5292, FAX: 301-796-9907, email: jacqueline.brooks-leighton@fda.hhs.gov.

SUPPLEMENTARY INFORMATION: In FR Doc. 2015-18969, appearing on page 45998, in the Federal Register of Monday August 3, 2015, the following corrections are made:

On page 45998, in the second full paragraph of the third column, the registration link, https://www.SignUp4.net/public/ap.aspx?EID=SIXT10E, is corrected to read http://www.cvent.com/events/6th-annual-coalition-against-major-diseases-food-and-drug-administration-scientific-workshop-public-/invitation-ed6c207cbf09447185a891e4bf62ad7a.aspx?i=70715ca1-f255-46b2-a370-3fe3881bbab2.

On page 45998, in the third full paragraph of the third column, the registration deadline, October 14, 2015, is corrected to read October 13, 2015.

On page 45998, in the third full paragraph of the third column, the link for the FDA Meeting information page, http://www.fda.gov/Drugs/NewsEvents/ucm410863.htm, is corrected to read http://www.fda.gov/Drugs/NewsEvents/ucm457486.htm.

Dated: September 2, 2015.
Leslie Kux,
Associate Commissioner for Policy.

[FR Doc. 2015-22674 Filed 9-8-15; 8:45 am]

BILLING CODE 4164-01-P